ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plan previously submitted by West Virginia.

DATES: This notice is effective upon publication in the Federal Register.

FOR FURTHER INFORMATION CONTACT: Bryan Whitener, Telephone 202-566-3100 or 1-866-747-1471 (toll-free).

Submit Comments: Any comments regarding the plan published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. EAC has not previously published an update to the West Virginia State plan in the Federal Register.

The submission from West Virginia addresses material changes in the administration of its previously submitted State plan and, in accordance with HAVA section 254(a)(12), provides information on how the State succeeded in carrying out the previous State plan. The current submission from West Virginia addresses a material change to the attachments of their previously submitted State plan, including a Request for Proposal to explain the voting system vendor selection process. The amendment also includes the State Rules passed by the West Virginia State Legislature in relation to the loan fund provided by the State Election Commission for the purchase of voting equipment, software and services by counties.

Upon the expiration of thirty days from February 1, 2006, West Virginia will be eligible to implement the material changes addressed in the plan that is published herein, in accordance with HAVA section 254(a)(11)(C).

EAC notes that the plan published herein has already met the notice and comment requirements of HAVA section 256, as required by HAVA section 254(a)(11)(B). EAC wishes to acknowledge the effort that went into revising the State plan and encourages further public comment, in writing, to the State election official listed below.

Chief State Election Officials

West Virginia

The Honorable Betty Ireland, Secretary of State, Bldg. 1, Suite 157-K, 1900 Kanawha Blvd., East Charleston, WV 25305-0770, Phone: 866-SOS-VOTE, Fax: 304-558-0900, E-mail: elections@wvsos.com.

Thank you for your interest in improving the voting process in America.

Dated: January 6, 2006.
Paul S. DeGregorio,
Chairman, U.S. Election Assistance Commission.

BILLING CODE 6820-KF-P

[FR Doc. 06-391 Filed 1-31-06; 8:45 am]

BILLING CODE 6820-KF-C